DEPARTMENT OF THE INTERIOR

Bureau of Land Management

[LLWY920000.L14300000.ET0000; WYW167985]

Notice of Proposed Withdrawal and Opportunity for Public Meeting for the Split Rock/Devil's Gate Interpretive Sites, Wyoming

AGENCY: Bureau of Land Management, Interior.

ACTION: Notice.

SUMMARY: The Assistant Secretary for Land and Minerals Management proposes to withdraw, subject to valid existing rights, on behalf of the Bureau of Land Management (BLM), 343.23 acres of public lands from location and entry under the United States mining laws, but not from leasing under the mineral or geothermal leasing laws, or disposal under the Materials Act of 1947, to protect and preserve the Split Rock/Devil's Gate interpretive sites. This notice segregates the lands from mining for up to 2 years while various studies and analyses are made to support a final decision on the withdrawal application.

DATES: Comments must be received on or before December 23, 2014.

ADDRESSES: Comments and meeting requests should be sent to the BLM Wyoming State Office, 5353 Yellowstone Road, Cheyenne, WY 82009.

FOR FURTHER INFORMATION CONTACT: Diane Schurman, BLM Wyoming State Office, 5353 Yellowstone Road, Cheyenne, WY 82009; telephone: 307-775-6189; email: dschurma@blm.gov. Persons who use a telecommunications device for the deaf (TDD) may call the Federal Information Relay Service (FIRS) at 1-800-877-8339 to contact the above individual. The FIRS is available 24 hours a day, 7 days a week, to leave a message or question with the above individual. You will receive a reply during normal business hours.

SUPPLEMENTARY INFORMATION: The BLM filed an application requesting the Assistant Secretary for Land and Minerals Management withdraw, subject to valid existing rights, the following described public lands from location and entry under the United States mining laws, but not from leasing under the mineral or geothermal leasing laws, or disposal under the Materials Act of 1947, to protect and preserve the Split Rock/Devil's Gate interpretive sites:

Sixth Principal Meridian

T. 29 N., R. 87 W.,

Sec. 35, NE¼SE¼, NE¼NE¼NW¼SE¼, S½N½NW¼SE¼, S½NW¼SE¼, N½SW¼SE¼ and N½SE¼SE¼.

T. 29 N., R. 89 W.,

Sec. 30, lot 2, NE¼NW¼ and N½SE¼NW¼.

T. 29 N., R. 90 W.,

Sec. 25, E½SW¼NE¼, SE¼NE¼, E½NW¼SE¼, NE¼SE¼, and N½N½SE¼SE¼.

The areas described aggregate 343.23 acres, more or less, in Fremont and Natrona Counties.

The Assistant Secretary for Land and Minerals Management approved the BLM's petition/application. Therefore, the petition/application constitutes a withdrawal proposal of the Secretary of the Interior (43 CFR 2310.1-3(e)).

The purpose of the proposed withdrawal is to protect the unique archaeological, historical, geological, and recreational values as well as the Federal investment at the Split Rock and Devil's Gate Interpretive Sites.

The use of a right-of-way, interagency agreement, or cooperative agreement would not adequately constrain non-discretionary use of the land needed to provide the highest level of protection possible for the historic, cultural, aesthetic, and recreational values of the lands.

There are no suitable alternative sites as the described lands contain the resource values to be protected.

No additional water rights will be needed to fulfill the purpose of the requested withdrawal.

Records relating to the application may be examined by contacting the BLM at the above address and phone number.

For a period until December 23, 2014, all persons who wish to submit comments, suggestions or objections in connection with the proposed withdrawal application may present their views in writing to the BLM Wyoming State Director at the mailing address or email address noted above. All comments received will be considered before any recommendation concerning the proposed withdrawal is submitted to the Secretary of the Interior for final action.

Comments including names and street addresses of respondents, will be available for public review at the BLM Wyoming State Office, during regular business hours 8:00 a.m. to 4:30 p.m., Monday through Friday, except Federal holidays. Before including your address, phone number, email address, or other personal identifying information in your comment, you should be aware that your entire comment—including your personal identifying information—may be made publicly available at any time. While you may ask us in your comment to withhold your personal identifying information from public review, we cannot guarantee that we will be able to do so. Notice is hereby given that an opportunity for a public meeting is afforded in connection with the proposed withdrawal. All interested persons who desire a public meeting for the purpose of being heard on the proposed withdrawal must submit a written request to the BLM Wyoming State Director no later than December 23, 2014. If the authorized officer determines that a public meeting will be held, a notice of the time and place will be published in the Federal Register and a local newspaper at least 30 days before the scheduled date of the meeting.

For a period until September 26, 2016, the lands will be segregated as specified above unless the application is denied or canceled or the withdrawal is approved prior to that date. Licenses, permits, cooperative agreements, or discretionary land use authorizations of a temporary nature which would not impact the site may be allowed with the approval of an authorized officer of the BLM during the segregative period. This application will be processed in accordance with the regulations set forth in 43 CFR 2310.3.

Donald A. Simpson,
Wyoming State Director.

[FR Doc. 2014-22720 Filed 9-23-14; 8:45 am]

BILLING CODE 4310-22-P